SMALL BUSINESS ADMINISTRATION

[Declaration of Disaster #3602]

Commonwealth of Kentucky

Breckinridge County and the contiguous counties of Grayson, Hancock, Hardin, Meade, and Ohio in the Commonwealth of Kentucky; and Perry County in the State on Indiana constitute a disaster area due to damages caused by severe thunderstorms and high winds that occurred on July 13, 2004, and are continuing. Applications for loans for physical damage as a result of this disaster may be filed until the close of business on October 1, 2004, and for economic injury until the close of business on May 2, 2005, at the address listed below or other locally announced locations: Small Business Administration, Disaster Area 2 Office, One Baltimore Place, Suite 300, Atlanta, GA 30308.

The interest rates are:

| Percent
For Physical Damage:
Homeowners with credit available elsewhere | 5.750
Homeowners without credit available elsewhere | 2.875
Businesses with credit available elsewhere | 5.500
Businesses and non-profit organizations without credit Available Elsewhere | 2.750
Others (including non-profit organizations) with credit available elsewhere | 4.875
For Economic Injury:
Businesses and small agricultural cooperatives without credit available elsewhere | 2.750

The number assigned to this disaster for physical damage is 360211 for Kentucky and 360311 for Indiana. The number assigned to this disaster for economic injury is 9ZN300 for Kentucky and 9ZN400 for Indiana.

(Catalog of Federal Domestic Assistance Program Nos. 59002 and 59008.)
Dated: August 2, 2004.
Hector V. Barreto,
Administrator.

[FR Doc. 04-18096 Filed 8-6-04; 8:45 am]

BILLING CODE 8025-01-P